SOCIAL SECURITY ADMINISTRATION

[Docket No: SSA-2017-0011]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov,

(SSA) Social Security Administration, OLCA, Attn: Reports Clearance Director, 3100 West High Rise, 6401 Security Blvd., Baltimore, MD 21235, Fax: 410-966-2830, Email address: OR.Reports.Clearance@ssa.gov, Or you may submit your comments online through www.regulations.gov, referencing Docket ID Number [SSA-2017-0011].

I. The information collections below are pending at SSA. SSA will submit them to OMB within 60 days from the date of this notice. To be sure we consider your comments, we must receive them no later than May 9, 2017. Individuals can obtain copies of the collection instruments by writing to the above email address.

1. Marriage Certification—20 CFR 404.725—0960-0009. Sections 202(b) and 202(c) of the Social Security Act (Act) stipulate that every spouse of an individual entitled to Old Age, Survivors, and Disability Insurance (OASDI) benefits is entitled to a spouse benefit if the wife or husband, in addition to meeting the entitlement requirements, meets the relationship criteria in Section 216(h)(1)(A) and (B) of the Act. SSA uses Form SSA-3 to determine if a spouse claimant has the necessary relationship to the Social Security number holder (i.e., the worker) to qualify for the worker's OASDI benefits. The respondents are applicants for spouse's OASDI benefits.

Type of Request: Revision of an OMB-approved information collection.

Modality of completion | Number of respondents | Frequency of response | Average burden per response (minutes) | Estimated total annual burden (hours)
SSA-3 | 180,000 | 1 | 5 | 15,000

2. Farm Arrangement Questionnaire—20 CFR 404.1082(c)—0960-0064. When self-employed workers submit earnings data to SSA, they cannot count rental income from a farm unless they demonstrate “material participation” in the farm's operation. A material participation arrangement means the farm owners must perform a combination of physical duties, management decisions, and capital investment in the farm they are renting out. SSA uses Form SSA-7157, the Farm Arrangement Questionnaire, to document material participation. The respondents are workers who are renting farmland to others; are involved in the operation of the farm; and want to claim countable income from work they perform relating to the farm.

Type of Request: Revision of an OMB-approved information collection.

Modality of completion | Number of respondents | Frequency of response | Average burden per response (minutes) | Estimated total annual burden (hours)
SSA-7157 | 2,304 | 1 | 30 | 1,152

3. Railroad Employment Questionnaire—20 CFR 404.1401, 404.1406-404.1408—0960-0078. Railroad workers, their dependents, or survivors can concurrently apply for railroad retirement and Social Security benefits at SSA if the number holder, or claimant on the number holder's Social Security Number, worked in the railroad industry. SSA uses Form SSA-671 to coordinate Social Security claims processing with the Railroad Retirement Board and to determine benefit entitlement and amount. The respondents are Social Security benefit applicants previously employed by a railroad or dependents of railroad workers.

Type of Request: Revision of an OMB-approved information collection.

Modality of completion | Number of respondents | Frequency of response | Average burden per response (minutes) | Estimated total annual burden (hours)
SSA-671 | 125,000 | 1 | 5 | 10,417

II. SSA submitted the information collection below to OMB for clearance. Your comments regarding the information collection would be most useful if OMB and SSA receive them 30 days from the date of this publication. To be sure we consider your comments, we must receive them no later than April 10, 2017. Individuals can obtain copies of the OMB clearance package by writing to OR.Reports.Clearance@ssa.gov.

Application for Survivor's Benefits—20 CFR 404.611(a) and (c)—0960-0062. Surviving family members of armed services personnel can file for Social Security and veterans' benefits with SSA or at the Veterans Administration (VA). Applicants filing for Title II survivor benefits at the VA complete Form SSA-24, which the VA forwards to SSA for processing. SSA uses the information to determine eligibility for benefits. The respondents are survivors of deceased armed services personnel who are applying for benefits at the VA.

Type of Request: Revision of an OMB-approved information collection.

Modality of completion | Number of respondents | Frequency of response | Average burden per response (minutes) | Estimated total annual burden (hours)
SSA-24 | 3,200 | 1 | 15 | 800

Dated: March 6, 2017.
Naomi R. Sipple,
Reports Clearance Officer, Social Security Administration.

[FR Doc. 2017-04712 Filed 3-9-17; 8:45 am]

BILLING CODE 4191-02-P